DEPARTMENT OF COMMERCE

International Trade Administration

United States-Mexico-Canada Agreement (USMCA), Article 10.12: Binational Panel Review: Notice of Request for Panel Review

AGENCY: United States Section, USMCA Secretariat, International Trade Administration, Department of Commerce.

ACTION: Notice of Completion of Panel Review.

SUMMARY: The deadline to file a complaint in the matter of Tin Mill Products from Canada; Final Affirmative Determination of Sales at Less than Fair Value and Final Negative Determination of Critical Circumstances was March 11, 2024. No complaint was timely filed pursuant to the USMCA Rules of Procedure for Article 10.12 Binational Panel Reviews (Rules). As such, this panel review has been completed.

FOR FURTHER INFORMATION CONTACT: Vidya Desai, United States Secretary, NAFTA Secretariat, Room 2061, 1401 Constitution Avenue NW, Washington, DC 20230, (202) 482-5438.

SUPPLEMENTARY INFORMATION: As a result of no complaint being timely filed pursuant to subrule 44(1) of the USMCA Rules of Procedure for Article 10.12, and in accordance with Rule 75(3), notice is hereby given that panel review of the Tin Mill Products from Canada AD dispute has been completed effective March 12, 2024.

Article 10.12 of Chapter 10 of USMCA provides a dispute settlement mechanism involving trade remedy determinations issued by the Government of the United States, the Government of Canada, and the Government of Mexico. Following a Request for Panel Review, a Binational Panel is composed to review the trade remedy determination being challenged and issue a binding Panel Decision. There are established USMCA Rules of Procedure for Article 10.12 (Binational Panel Reviews), which were adopted by the three governments for panels requested pursuant to Article 10.12(2) of USMCA which requires Requests for Panel Review to be published in accordance with Rule 40. For the complete Rules, please see https://can-mex-usa-sec.org/secretariat/agreement-accord-acuerdo/usmca-aceum-tmec/rules-regles-reglas/article-article-articulo_10_12.aspx?lang=eng.

Dated: March 12, 2024.
Jamie Merriman,
Deputy U.S. Secretary, USMCA Secretariat.

[FR Doc. 2024-05662 Filed 3-19-24; 8:45 am]

BILLING CODE 3510-GT-P